DEPARTMENT OF AGRICULTURE

Animal and Plant Health Inspection Service

9 CFR Parts 92, 93, 94, 95, 96, and 98

[Docket No. APHIS-2008-0010]

RIN 0579-AC68

Bovine Spongiform Encephalopathy; Importation of Bovines and Bovine Products

Corrections

In rule document 2013-28228 appearing on pages 72980-73008 in the issue of December 4, 2013, make the following corrections:

1. On page 72985, in the third column, in the 16th line from the bottom “C□N” should read “CΛN”.

§ 93.418 [Corrected]

2. On page 72996, in the second column, in the 10th line from the bottom, “C□N” should read “CΛN”.

3. On the same page, in the third column, in the 1st line “CN” should read “CΛN”.

[FR Doc. C1-2013-28228 Filed 12-9-13; 8:45 am]

BILLING CODE 1505-01-D